DEPARTMENT OF EDUCATION

Privacy Act of 1974; System of Records—Evaluation of Moving High-Performing Teachers to Low-Performing Schools

AGENCY: Institute of Education Sciences, Department of Education.

ACTION: Notice of a new system of records.

SUMMARY: In accordance with the Privacy Act of 1974, as amended (Privacy Act), the Department of Education (Department) publishes this notice of a new system of records entitled “Evaluation of Moving High-Performing Teachers to Low-Performing Schools” (18-13-21). The National Center for Education Evaluation and Regional Assistance at the Department's Institute of Education Sciences (IES) commissioned this evaluation. It will be conducted under a contract that IES awarded in September 2007.

The central research question that the study will address is: What impacts on student achievement do high-performing teachers have when they are placed in low-performing schools?

The system will contain elementary and middle school student records and teacher information for approximately 10 school districts.

The evaluation will target 10 school districts where linked student-teacher school records, including test score data, are available for the last four years for all enrolled students. The system of records will include elementary and middle school student test score records, student demographic data, and their teachers' demographic data and teaching experience. Across the 10 school districts, data will be collected on approximately 200 teachers and 3680 students in their classrooms.

The system of records will include personally identifying information about the students in the participating teacher classrooms, including demographic information such as race, ethnicity, gender, age, and educational background; and scores on State reading and mathematics achievement tests. The system of records will also include personally identifying information about teachers participating in the evaluation, including demographic information such as race, ethnicity, gender, and educational background; and teaching experience.

DATES: The Department seeks comment on the new system of records described in this notice, in accordance with the requirements of the Privacy Act. We must receive your comments on the proposed routine uses for the system of records referenced in this notice on or before April 23, 2009.

The Department filed a report describing the new system of records covered by this notice with the Chair of the Senate Committee on Homeland Security and Governmental Affairs, the Chair of the House Committee on Oversight and Government Reform, and the Administrator of the Office of Information and Regulatory Affairs, Office of Management and Budget (OMB) on March 19, 2009. This system of records will become effective at the later date of—(1) the expiration of the 40-day period for OMB review on April 28, 2009 or (2) April 23, 2009, unless the system of records needs to be changed as a result of public comment or OMB review.

ADDRESSES: Address all comments about the proposed routine uses to Dr. Audrey Pendleton, Acting Associate Commissioner, Evaluation Division, National Center for Education Evaluation and Regional Assistance, Institute of Education Sciences, U.S. Department of Education, 555 New Jersey Avenue, NW., Room 502D, Washington, DC 20208-0001. Telephone: (202) 208-7078. If you prefer to send comments through the Internet, use the following address: comments@ed.gov.

You must include the term “Evaluation of Moving High-Performing Teachers to Low-Performing Schools” in the subject line of the electronic message.

During and after the comment period, you may inspect all comments about this notice at the U.S. Department of Education in Room 502D, 555 New Jersey Avenue, NW., Washington, DC, between the hours of 8 a.m. and 4:30 p.m., Eastern time, Monday through Friday of each week except Federal holidays.

Assistance to Individuals With Disabilities in Reviewing the Rulemaking Record:

On request, we supply an appropriate aid, such as a reader or print magnifier, to an individual with a disability who needs assistance to review the comments or other documents in the public rulemaking record for this notice. If you want to schedule an appointment for this type of aid, please contact the person listed under FOR FURTHER INFORMATION CONTACT.

FOR FURTHER INFORMATION CONTACT: Dr. Audrey Pendleton. Telephone: (202) 208-7078. If you use a telecommunications device for the deaf (TDD), you may call the Federal Relay Service (FRS) at 1-800-877-8339.

Individuals with disabilities may obtain this document in an alternative format (e.g., braille, large print, audiotape, or computer diskette) on request to the contact person listed in this paragraph.

SUPPLEMENTARY INFORMATION:

Introduction

The Privacy Act (5 U.S.C. 552a) requires the Department to publish in the Federal Register this notice of a new system of records maintained by the Department. The Department's regulations implementing the Privacy Act are contained in part 5b of title 34 of the Code of Federal Regulations (CFR).

The Privacy Act applies to information about individuals that contains individually identifying information and that is retrieved by a unique identifier associated with each individual, such as a name or social security number. The information about each individual is called a “record,” and the system, whether manual or computer-based, is called a “system of records.”

The Privacy Act requires each agency to publish a notice of a system of records in the Federal Register and to prepare and send a report to OMB whenever the agency publishes a new system of records. Each agency is also required to send copies of the report to the Chair of the Senate Committee on Homeland Security and Governmental Affairs and the Chair of the House Committee on Oversight and Government Reform. These reports are inc1uded to permit an evaluation of the probable effect of the proposal on the privacy rights of individuals.

Electronic Access to This Document

You may view this document, as well as all other documents of this Department published in the Federal Register, in text or Adobe Portable Document Format (PDF) on the Internet at the following site: http://www.ed.gov/news/fedregister/index.html.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: March 19, 2009.
Sue Betka,
Acting Director, Institute of Education Sciences.

For the reasons discussed in the preamble, the Director of the Institute of Education Sciences, U.S. Department of Education, publishes a notice of a new system of records to read as follows:

18-13-21

System Name:

Evaluation of Moving High-Performing Teachers to Low-Performing Schools.

Security Classification:

None.

System Location:

(1) Evaluation Division, National Center for Education Evaluation and Regional Assistance, Institute of Education Sciences (IES), U.S. Department of Education, 555 New Jersey Avenue, NW., Room 502E, Washington, DC 20208-0001.

(2) Mathematica Policy Research, Inc., 600 Maryland Avenue, SW., Suite 550, Washington, DC 20024-2512 (contractor).

(3) Optimal Solutions Group, 8100 Professional Place, Suite 312, Hyattsville, MD 20785-2229 (subcontractor).

(4) The New Teacher Project, 186 Joralemon Street, Suite 300, Brooklyn, NY 11201-4326 (subcontractor).

Categories of Individuals Covered by the System:

This system contains records on elementary and middle school students and teachers in approximately 10 school districts participating in an evaluation of the impact on improving student achievement of placing high-performing teachers in low-performing schools. In these 10 school districts, data will be collected on approximately 200 teachers and 3680 students in their classrooms.

Categories of Records in the System:

The evaluation will contain information about 10 school districts where linked student-teacher school records, including test score data, are available for the last four years for all enrolled students. The system of records will include personally identifying information about elementary and middle school students participating in the evaluation, including demographic information such as race, ethnicity, gender, age, educational background, English language proficiency, disability status, eligibility for school lunch programs and mobility status; and scores on State reading and mathematics achievement tests. The system of records will also include personally identifying information about teachers participating in the evaluation, including demographic information such as race, ethnicity, and educational background; and teaching experience.

Authority for Maintenance of the System:

The evaluation is authorized under: (1) Sections 171(b) and 173 of the Education Sciences Reform Act of 2002 (ESRA) (20 U.S.C. 9561(b) and 9563); and (2) section 9601(a) of the Elementary and Secondary Education Act of 1965 (ESEA), as amended by the No Child Left Behind Act of 2001 (NCLB) (20 U.S.C. 7941(a)). The grant programs that are the subject of this evaluation are authorized under Part A of Title II of the ESEA, as amended by the NCLB (20 U.S.C. 6601-51).

Purpose(s):

The central purpose and reason why the Department is establishing this system of records is to evaluate the impact on improving student achievement of high-performing teachers who are placed in low-performing schools. We seek to study the following additional research questions that are important for policymaking:

(1) What is the overlap between high-performing teachers and low-performing schools? In other words, how serious is the unequal distribution of teacher talent?

(2) How responsive to incentives are high-performing teachers?

(3) What factors influence career decisions of high-performing teachers?

(4) Who fills teaching vacancies in low-performing schools in the absence of incentives for high-performing teachers to move to low-performing schools?

Routine Uses of Records Maintained in the System, Including Categories of Users and the Purposes of Such Uses:

The Department of Education (Department) may disclose information contained in a record in this system of records under the routine uses listed in this system of records without the consent of the individual if the disclosure is compatible with the purposes for which the record was collected. These disclosures may be made on a case-by-case basis or, if the Department has complied with the computer matching requirements of the Privacy Act, under a computer matching agreement. Any disclosure of individually identifying information from a record in this system must also comply with the requirements of section 183 of the ESRA (20 U.S.C. 9573) providing for confidentiality standards that apply to all collections, reporting, and publication of data by IES.

Contract Disclosure. If the Department contracts with an entity for the purposes of performing any function that requires disclosure of records in this system to employees of the contractor, the Department may disclose the records to those employees. Before entering into such a contract, the Department shall require the contractor to maintain Privacy Act safeguards as required under 5 U.S.C. 552a(m) with respect to the records in the system.

Disclosure to Consumer Reporting Agencies:

Not applicable to this system notice.

Policies and Practices for Storing, Retrieving, Accessing, Retaining, and Disposing of Records in the System:

Storage:

The Department maintains records on CD-ROM, and the contractor (Mathematica Policy Research, Inc.) and subcontractors (Optimal Solutions Group and the New Teacher Project) maintain data for this system on computers and in hard copy.

Retrievability:

Records in this system are indexed and retrieved by a number assigned to each individual that is cross-referenced by the individual's name on a separate list.

Safeguards:

All physical access to the Department's site and to the sites of the Department's contractor and subcontractors, where this system of records is maintained, is controlled and monitored by security personnel. The computer system employed by the Department offers a high degree of resistance to tampering and circumvention. This security system limits data access to Department and contract staff on a need-to-know basis, and controls individual users' ability to access and alter records within the system. The contractor and subcontractors will establish similar sets of procedures at their sites to ensure confidentiality of data. Their systems are required to ensure that information identifying individuals is in files physically separated from other research data. The contractor and subcontractors will maintain security of the complete set of all master data files and documentation. Access to individually identifying data will be strictly controlled. At each site all data will be kept in locked file cabinets during nonworking hours, and work on hardcopy data will take place in a single room, except for data entry. Physical security of electronic data will also be maintained. Security features that protect project data include: Password-protected accounts that authorize users to use the contractor's and subcontractors' systems but to access only specific network directories and network software; user rights and directory and file attributes that limit those who can use particular directories and files and determine how they can use them; and additional security features that the network administrators will establish for projects as needed. The contractor's and subcontractors' employees who “maintain” (collect, maintain, use, or disseminate) data in this system shall comply with the requirements of the confidentiality standards in section 183 of the ESRA (20 U.S.C. 9573).

Retention and Disposal:

Records are maintained and disposed of in accordance with the Department's Records Disposition Schedules (ED/RDS, Part 3, Item 2b and Part 3, Item 5a).

System Manager and Address:

Acting Associate Commissioner, Evaluation Division, National Center for Education Evaluation and Regional Assistance, Institute of Education Sciences, U.S. Department of Education, 555 New Jersey Avenue, NW., Room 502E, Washington, DC 20208.

Notification Procedure:

If you wish to determine whether a record exists regarding you in the system of records, contact the systems manager. Your request must meet the requirements of regulations at 34 CFR 5b.5, including proof of identity.

Record Access Procedure:

If you wish to gain access to your record in the system of records, contact the system manager. Your request must meet the requirements of regulations at 34 CFR 5b.5, including proof of identity.

Contesting Record Procedure:

If you wish to contest the content of a record regarding you in the system of records, contact the system manager. Your request must meet the requirements of the regulations at 34 CFR 5b.7, including proof of identity.

Record Source Categories:

This system contains records on elementary and middle school students and teachers in school districts participating in an evaluation of the impact on student achievement of high-performing teachers who are placed in low-performing schools. Districts have databases (school records) that contain all the student information that the Department will use. As part of the evaluation, a district is providing the Department's contractor with data files that contain the information on each student assigned to a teacher participating in the evaluation. Data collected from teachers will be collected from surveys that they fill out.

Exemptions Claimed for the System:

None.

[FR Doc. E9-6445 Filed 3-23-09; 8:45 am]

BILLING CODE 4000-01-P